INTERNATIONAL TRADE COMMISSION

[USITC SE-18-054]

Government in the Sunshine Act Meeting Notice

Agency Holding the Meeting: United States International Trade Commission.

TIME AND DATE: November 30, 2018 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-612-613 and 731-TA-1429-1430 (Preliminary) (Polyester Textured Yarn from China and India). The Commission is currently scheduled to complete and file its determinations on December 3, 2018; views of the Commission are currently scheduled to be completed and filed on December 10, 2018.

5. Outstanding action jackets: None.

In accordance with Commission policy, subject matter listed above, not disposed of at the scheduled meeting, may be carried over to the agenda of the following meeting.

By order of the Commission.
Issued: November 23, 2018.
William Bishop,
Supervisory Hearings and Information Officer.

[FR Doc. 2018-25921 Filed 11-23-18; 11:15 am]

BILLING CODE 7020-02-P